DEPARTMENT OF TRANSPORTATION

Federal Aviation Administration

Intent To Prepare an Environmental Impact Statement and To Conduct Scoping Meetings for the Proposed Relocation of Runway 11R/29L and Associated Development at the Tucson International Airport in Tucson, AZ

AGENCY: Federal Aviation Administration, DOT.

ACTION: Notice of Intent to Prepare an Environmental Impact Statement and to conduct scoping meetings.

SUMMARY: The Federal Aviation Administration (FAA) is issuing this notice to advise the public that an Environmental Impact Statement (EIS) will be prepared to assess the potential impacts of the proposed relocation of Runway 11R/29L and associated development at Tucson International Airport. To ensure that all significant issues related to the proposed action are identified, one (1) public scoping meeting and one (1) governmental agency scoping meeting will be held.

FOR FURTHER INFORMATION CONTACT: Michelle Simmons, Environmental Protection Specialist, Federal Aviation Administration, Western-Pacific Region, Airports Division, P.O. Box 92007, Los Angeles, California 90009-2007. Telephone: (310) 725-3614. Any scoping comments and suggestions regarding the EIS must be submitted to the address above and must be received no later than 5 p.m. Pacific Standard Time, December 15, 2005.

SUPPLEMENTARY INFORMATION: The Federal Aviation Administration (FAA) will prepare an Environmental Impact Statement (EIS) for addressing specific improvements at Tucson International Airport. The (EIS) will be prepared in accordance with the procedures described in FAA Order 5050.4A, Airport Environmental Handbook, and FAA Order 1050.1E, Environment Impacts: Policies and Procedures. The Tucson Airport Authority, the owner of Tucson International Airport proposes the following development as identified in the 2004 Tucson International Airport Master Plan: Relocate Runway 11R/29L, 450 feet to the southwest, creating a centerline to centerline separation of 1,156 feet between the existing Runway 11L29R and the relocated Runway 11R/29L. The length of the relocated Runway 11R/29L will be 11,000 feet long by 150 feet wide. The development will also include the extension of existing Taxiways A-6 and A-17, and provisions for acute angled “high speed” exits at Taxiways A-11, A-13, and A-15; addition of new Taxiways A-16 and A-18; extension of Taxiway B, (which is currently marked as 11R/29L); relocation of the airport service road to accommodate the proposed runway relocation; and installation of an Instrument Landing System (ILS) in conjunction with the relocated runway, including a Medium Intensity Approach Lighting System with Runway Alignment Indicator Lights (MALSR) in both directions. The Airport Master Plan Update identified the need to provide additional airfield capacity at the Airport to meet the projected levels of operational and passenger demand. Within the EIS, FAA proposed to consider a range of alternatives that could potentially meet the need for additional airport capacity in the Tucson metropolitan area including, but not limited to, the following:

Alternative One—Sponsor's Proposed Action: Relocate Runway 11R/29L, 450 feet to the southwest, creating a centerline separation of 1,156 feet between the existing Runway 11L/29R and the relocated Runway 11R/29L. The relocated Runway 11R/29L will be 11,000 feet long by 150 feet wide. The relocation of Runway 11R/29L will include construction of a parallel and connecting taxiway system, and associated navigational aids.

Alternative Two—Alternative Airfield Development at Tucson: Extending and upgrading the current general aviation Runway 11R/29L to an air carrier runway, maintaining a 700-foot centerline separation between the current air carrier Runway 11L/29R and the extended and upgraded runway 11R/29L, and

Alternative 3—Relocating and upgrading the general aviation Runway 11R/29L, to an air carrier runway, 2,500 feet south of Runway 11L/29R and converting the current runway 11R/29L to a parallel taxiway that would serve both runways, and

Alternative 4—Relocating and upgrading the general aviation Runway 11R/29L to an air carrier runway, 1,156 feet south of Runway 11L/29R, and converting the runway to a parallel taxiway that would serve both runways. This alternative incorporates a localizer directional aide (LDA) approach.

These airfield development alternatives identified under Alternative 2, 3 and four would likely include several of the support features of Alternative One, including taxiway improvements and associated navigational aids. The specific details of the alternative airfield development at Tucson International Airport will be refined following the scoping process during the preparation of the EIS.

Alternative Five—Use of Other Existing Airports: The possible use of other existing area airports including, but not limited to, Ryan Airfield and Marana Regional Airport will be evaluated.

Alternative Six—Use of Other Modes of Transportation: Use of intercity bus line, rail, and automobile transportation will be evaluated.

Alternative Seven—No Action Alternative: Under this alternative, the existing airport would remain unchanged. Runway 11R/29L would remain in its current configuration.

Comments and suggestions are invited from Federal, State and local agencies, and other interested parties to ensure that the full range of issues related to these proposed projects are addressed and all significant issues are identified. Written comments and suggestions may be mailed to the FAA informational contact listed above and must be received no later than 5:00 p.m. Pacific Standard Time, December 15, 2005.

Scoping Meetings: The FAA will hold one (1) public and one (1) governmental agency scoping meeting to solicit input from the public and various Federal, State and local agencies having jurisdiction or having specific expertise with respect to any environmental impacts associated with the proposed projects. The public scoping meeting will be held on Tuesday, November 15, 2005, in the Tucson Airport Authority Boardroom at 7005 South Plumer Avenue, Tucson, Arizona 85706. The meeting will be held from 4 p.m. to 7 p.m. Mountain Standard Time (MST). A scoping meeting will be held specifically for governmental agencies on the same day at the same location from 10 a.m. to 12 p.m. MST.

Issued in Hawthorne, California on Tuesday, October 4, 2005.
Mark A. McClardy,
Manager, Airports Division, Western-Pacific, Region AWP-600.

[FR Doc. 05-20461 Filed 10-12-05; 8:45 am]

BILLING CODE 4910-13-M